DEPARTMENT OF COMMERCE

National Oceanic and Atmospheric Administration

RIN 0648-XD578

North Pacific Fishery Management Council; Public Meetings

AGENCY: National Marine Fisheries Service (NMFS), National Oceanic and Atmospheric Administration (NOAA), Commerce.

ACTION: Notice of public meetings.

SUMMARY: The North Pacific Fishery Management Council (Council) Fixed Gear Electronic Monitoring (EM) Workgroup will meet in Seattle, WA.

DATES: The meetings will be held November 19-20, 2014, 2014, from 8 a.m. to 5 p.m., each day.

ADDRESSES: The meetings will be held at the Renaissance Hotel 515 Madison Street, Seattle, WA.

Council address: North Pacific Fishery Management Council, 605 W. 4th Ave., Suite 306, Anchorage, AK 99501-2252.

FOR FURTHER INFORMATION CONTACT: Diana Evans, Council staff; telephone: (907) 271-2809.

SUPPLEMENTARY INFORMATION: The agenda is to discuss progress on the elements of the 2015 EM Cooperative Research Plan, develop a plan to finalize the research plan for SSC review in February, develop recommendations for the Council on alternatives and purpose and need for the Council analysis to integrate EM into the observer program, and discuss funding and timelines for the research plan and the analysis.

The Agenda is subject to change, and the latest version will be posted at http://www.npfmc.org/

Special Accommodations

These meetings are physically accessible to people with disabilities. Requests for sign language interpretation or other auxiliary aids should be directed to Gail Bendixen at (907) 271-2809 at least 7 working days prior to the meeting date.

Dated: October 29, 2014.
Tracey L. Thompson,
Acting Deputy Director, Office of Sustainable Fisheries, National Marine Fisheries Service.

[FR Doc. 2014-26069 Filed 10-31-14; 8:45 am]

BILLING CODE 3510-22-P